INTERNATIONAL TRADE COMMISSION

[Investigation No. 337-TA-691]

In the Matter of Certain Inkjet Ink Supplies and Components Thereof; Notice of Commission Determination Not To Review an Initial Determination Granting Motion To Amend the Notice of Investigation

AGENCY: U.S. International Trade Commission.

ACTION: Notice.

SUMMARY: Notice is hereby given that the U.S. International Trade Commission has determined not to review an initial determination (“ID”) (Order No.15) granting a motion to amend the notice of investigation.

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on October 29, 2009, based upon a complaint filed on behalf of Hewlett-Packard Company of Palo Alto, California (“HP”) on September 23, 2009, and supplemented on October 7, 2009. 74 FR 55856 (Oct. 29, 2009). The complaint alleged violations of section 337 of the Tariff Act of 1930 (19 U.S.C. 1337) in the importation into the United States, the sale for importation, and the sale within the United States after importation of certain inkjet ink supplies and components thereof that infringe certain claims of U.S. Patent Nos. 6,959,985; 7,104,630 (“the `630 patent”); 6,089,687; and 6,264,301. The complaint named as respondents Zhuhai Gree Magneto-Electric Co. Ltd. of Guangdong, China; InkPlusToner.com of Canoga Park, California; Mipo International Ltd. of Kowloon, Hong Kong; Mextec Group, Inc. d/b/a Mipo America Ltd. of Miami, Florida; Shanghai Angel Printer Supplies Co. Ltd. of Shanghai, China; SmartOne Services LLC d/b/a InkForSale.net of Hayward, California; Shenzhen Print Media Co., Ltd. of Shenzhen, China; Comptree of City of Industry, California; Zhuhai National Resources & Jingjie Imaging Products Co., Ltd. of Guangdong, China; Tatrix International of Guangdong, China; and Ourway Image Co., of Guangdong China.

On May 12, 2010, the Commission investigative attorney filed a motion pursuant to Commission Rule 210.14(b)(1) to amend the notice of investigation because, due to an inadvertent error, the notice of investigation does not reflect that HP asserted claims 11 and 27 of the `630 patent in its complaint. All of the respondents have either been terminated from the investigation on the basis of a settlement agreement or consent order or have been found in default. On May 14, 2010, the ALJ issued Order No. 15 granting the motion, finding good cause to amend the notice of investigation. No petitions for review were filed.

The Commission has determined not to review the ID.

The authority for the Commission's determination is contained in section 337 of the Tariff Act of 1930, as amended (19 U.S.C. 1337), and in section 210.42 of the Commission's Rules of Practice and Procedure (19 CFR 210.42).

By order of the Commission.
Issued: June 7, 2010.
William R. Bishop,
Acting Secretary to the Commission.

[FR Doc. 2010-13939 Filed 6-9-10; 8:45 am]

BILLING CODE P